DEPARTMENT OF HEALTH AND HUMAN SERVICES

National Institutes of Health

Center for Scientific Review; Amended Notice of Meeting

Notice is hereby given of a change in the meeting of the Center for Scientific Review Special Emphasis Panel, April 30, 2013, 09:00 a.m. to April 30, 2013, 05:30 p.m., National Institutes of Health, 6701 Rockledge Drive, Bethesda, MD, 20892 which was published in the Federal Register on April 02, 2013, FR 78 19724-19725.

The meeting will be held on May 2, 2013. The meeting time and location remain the same. The meeting is closed to the public.

Dated: April 2, 2013.
Michelle Trout,
Program Analyst, Office of Federal Advisory Committee Policy.

[FR Doc. 2013-08003 Filed 4-5-13; 8:45 am]

BILLING CODE 4140-01-P